DEPARTMENT OF COMMERCE

Foreign-Trade Zones Board

[B-75-2015]

Foreign-Trade Zone (FTZ) 76—Bridgeport, Connecticut; Notification of Proposed Production Activity; MannKind Corporation (Inhalable Insulin); Danbury, Connecticut

MannKind Corporation (MannKind), an operator of FTZ 76, submitted a notification of proposed production activity to the FTZ Board for its facilities in Danbury, Connecticut, within FTZ 76. The notification conforming to the requirements of the regulations of the FTZ Board (15 CFR 400.22) was received on October 29, 2015.

A separate application for subzone designation at the MannKind facilities was submitted and will be processed under Section 400.31 of the FTZ Board's regulations (Doc. S-147-2015). The facilities are used for the production of inhalable insulin. Pursuant to 15 CFR 400.14(b), FTZ activity would be limited to the specific foreign-status material and specific finished product described in the submitted notification (as described below) and subsequently authorized by the FTZ Board.

Production under FTZ procedures could exempt MannKind from customs duty payments on the foreign-status ingredient used in export production. On its domestic sales, MannKind would be able to choose the duty rate during customs entry procedures that applies to inhalable insulin (duty-free) for the foreign-status ingredient, fumaryl diketopiperazone (duty rate—6.5%). Customs duties also could possibly be deferred or reduced on foreign-status production equipment.

Public comment is invited from interested parties. Submissions shall be addressed to the FTZ Board's Executive Secretary at the address below. The closing period for their receipt is December 28, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: November 9, 2015.
Elizabeth Whiteman,
Acting Executive Secretary.

[FR Doc. 2015-29241 Filed 11-13-15; 8:45 am]

BILLING CODE 3510-DS-P